OFFICE OF THE UNITED STATES TRADE REPRESENTATIVE

Generalized System of Preferences (GSP): Notice Regarding the Acceptance of Competitive Need Limitation Waiver Petitions for the 2007 Annual Review

AGENCY: Office of the United States Trade Representative.

ACTION: Notice.

SUMMARY: The Office of the United States Trade Representative (USTR) received petitions in connection with the 2007 GSP Annual Review to waive the competitive need limitations (CNLs) on imports of certain products that are eligible for duty-free treatment under the GSP program. This notice announces those petitions that are accepted for further review. This notice also sets forth the schedule for comment and public hearings on these petitions, for requesting participation in the hearings, and submitting pre-hearing and post-hearing briefs, and for commenting on the USITC report on probable economic effects. The list of accepted petitions to waive CNLs is available at: http://www.ustr.gov/Trade_ Development/Preference_ Programs/GSP/GSP_ 2007_Annual_ Review/Section_ Index.html [2007 GSP Review, List of CNL Waiver Petitions Accepted in the 2007 GSP Annual Review]

FOR FURTHER INFORMATION CONTACT: Contact the GSP Subcommittee of the Trade Policy Staff Committee, Office of the United States Trade Representative, 1724 F Street, NW., Room F-220, Washington, DC 20508. The telephone number is (202) 395-6971.

DATES: The GSP regulations (15 CFR Part 2007) provide the schedule of dates for conducting an annual review unless otherwise specified in a Federal Register notice. The current schedule with respect to the review of CNL waiver petitions is set forth below. Notification of any other changes will be given in the Federal Register.

February 22, 2008: Due date for submission of pre-hearing briefs, requests to appear at the GSP Subcommittee Public Hearing, and hearing statements. Include the name, address, telephone, fax, e-mail address and organization of witnesses for accepted CNL waiver petitions on the submission of pre-hearing briefs and requests to appear at the Hearing.

March 4, 2008: GSP Subcommittee Public Hearing on all CNL waiver petitions accepted for the 2007 GSP Annual Review in Rooms 1 and 2, 1724 F St., NW., Washington, DC 20508, beginning at 9 a.m.

March 14, 2008: Due date for submission of post-hearing briefs.

May 2008: USITC scheduled to publish report on products for which CNL waivers have been requested in the 2007 GSP Annual Review (cases 2007-12 to 2007-16). Comments on the USITC report on these products are due 10 calendar days after USITC date of publication.

June 30, 2008: Modifications to the list of articles eligible for duty-free treatment under the GSP resulting from the 2007 Annual Review will be announced on or about June 30, 2008, in the Federal Register, and any changes will take effect on the effective date announced.

SUPPLEMENTARY INFORMATION: The GSP provides for the duty-free importation of eligible articles when imported from designated beneficiary developing countries. The GSP is authorized by title V of the Trade Act of 1974 (19 U.S.C. 2461, et seq.), as amended (the “1974 Act”), and is implemented in accordance with Executive Order 11888 of November 24, 1975, as modified by subsequent Executive Orders and Presidential Proclamations.

In Federal Register notices dated May 21, 2007, and October 24, 2007, USTR announced that the deadline for the filing of product petitions requesting waivers of “competitive need limitations” (CNLs) for the 2007 GSP Annual Review was November 16, 2007 (72 FR 28527 and 72 FR 60395). The interagency GSP Subcommittee of the Trade Policy Staff Committee (TPSC) has reviewed the CNL waiver petitions, and the TPSC has decided to accept for review the following petitions:

(1) Cucumbers including gherkins, prepared or preserved by vinegar or acetic acid from India (HTS 2001.10.00);

(2) Polyethylene terephthalate Resin (PET Resin) from Indonesia (HTS 3907.60.00);

(3) New pneumatic rubber radial tires for passenger vehicles from Indonesia (HTS 4011.10.10);

(4) Full grain unsplit bovine (not buffalo) & equine leather, not whole, w/o hair on, nesoi from Argentina (HTS 4107.91.80)

(5) Copper, cables, plaited bands and the like, not fitted with fittings and not made up into articles from Turkey (HTS 7413.00.50)

Additional information regarding this request is provided in “List of CNL Waiver Petitions Accepted in the 2007 GSP Annual Review” posted on the USTR Web site. That list sets forth: The case number, the Harmonized Tariff Schedule of the United States (HTSUS) subheading number, a brief description of the product (see the HTSUS for an authoritative description available on the USITC Web site (http://www.usitc.gov/tata/hts/) and the petitioner for each petition included in this review. Acceptance of a petition for review does not indicate any opinion with respect to the disposition on the merits of the petition. Acceptance indicates only that the listed petitions have been found eligible for review by the TPSC and that such review will take place.

Opportunities for Public Comment and Inspection of Comments

The GSP Subcommittee of the TPSC invites comments in support of or in opposition to any CNL waiver petition that has been accepted for the 2007 GSP Annual Review. Submissions should comply with 15 CFR Part 2007, except as modified below. All submissions should identify the subject article(s) in terms of the case number and eight digit HTSUS subheading number, if applicable, as shown in the “List of CNL Waiver Petitions Accepted in the 2007 GSP Annual Review” available at: http://www.ustr.gov/Trade_ Development/Preference_ Programs/GSP/GSP_ 2007_Annual_Review/Section_Index.html [2007 GSP Review, List of CNL Waiver Petitions Accepted in the 2007 GSP Annual Review]

Requirements for Submissions

In order to facilitate prompt processing of submissions, USTR requires electronic e-mail submissions in response to this notice. Hand-delivered submissions will not be accepted. These submissions should be single-copy transmissions in English, and including attachments, with the total submission not to exceed 30 single-spaced standard letter-size pages in 12-point type and three megabytes as sent as a digital file attached to an e-mail transmission. E-mail submissions should use the following subject line: “2007 GSP Annual Review'' followed by the Case Number, the eight-digit HTSUS subheading number found in the “List of CNL Waiver Petitions Accepted in the 2007 GSP Annual Review” on the USTR Web site (for example, 2007-05 7202.99.20) and, as appropriate ``Written Comments'', ``Notice of Intent to Testify”, ``Pre-hearing brief'', ``Post-hearing brief'' or ``Comments on USITC Advice''. (For example, an e-mail subject line might read ``2007-05 7202.99.20 Written Comments''.) Documents must be submitted in English in one of the following formats: WordPerfect (.WPD), Adobe (.PDF), MSWord (.DOC), or text (.TXT) files. Documents cannot be submitted as electronic image files or contain embedded images, e.g., “.JPG”, “.TIF”, “.BMP”, or “.GIF”. Supporting documentation submitted as spreadsheets are acceptable as Excel files, formatted for printing on 8½ x 11 inch paper. To the extent possible, any data attachments to the submission should be included in the same file as the submission itself, and not as separate files.

If the submission contains business confidential information, a non-confidential version of the submission must also be submitted that indicates where confidential information was redacted by inserting asterisks where material was deleted. In addition, the confidential submission must be clearly marked “BUSINESS CONFIDENTIAL” at the top and bottom of each page of the document. The non-confidential version must also be clearly marked at the top and bottom of each page (either “PUBLIC VERSION” or “NON-CONFIDENTIAL”). Documents that are submitted without any marking might not be accepted or will be considered public documents.

For any document containing business confidential information submitted as an electronic attached file to an e-mail transmission, the file name of the business confidential version should begin with the characters “BC-”, and the file name of the public version should begin with the characters “P-”. The “P- or “BC-” should be followed by the name of the party (government, company, union, association, etc.) which is making the submission.

E-mail submissions should not include separate cover letters or messages in the message area of the e-mail; information that might appear in any cover letter should be included directly in the attached file containing the submission itself, including the sender's name, organization name, address, telephone number and e-mail address. The e-mail address for these submissions is FR0711@USTR.EOP.GOV. (Note: the digit before the number 7 in the e-mail address is the number zero, not a letter.) Documents not submitted in accordance with these instructions might not be considered in this review. If unable to provide submissions by e-mail, please contact the GSP Subcommittee to arrange for an alternative method of transmission.

Public versions of all documents relating to this review will be available for review approximately two weeks after the relevant due date by appointment in the USTR public reading room, 1724 F Street, NW, Washington, DC. Appointments may be made from 9:30 a.m. to noon and 1 p.m. to 4 p.m., Monday through Friday, by calling (202) 395-6186.

Notice of Public Hearing

The GSP Subcommittee of the TPSC will hold a hearing on March 4, 2008, for CNL waiver product petitions accepted for the 2007 GSP Annual Review, beginning at 9 a.m. at the Office of the U.S. Trade Representative, Rooms 1 and 2, 1724 F Street, NW., Washington, DC 20508. The hearing will be open to the public and a transcript of the hearing will be available for public inspection or can be purchased from the reporting company. No electronic media coverage will be allowed.

All interested parties wishing to make an oral presentation at the hearing must submit, following the above “Requirements for Submissions”, the name, address, telephone number, and facsimile number and e-mail address, if available, of the witness(es) representing their organization to Marideth Sandler, Executive Director of the GSP Program by 5 p.m., February 22, 2008. Requests to present oral testimony at the public hearing, along with a written hearing statement, must be received by 5 p.m., February 22, 2008. Oral testimony before the GSP Subcommittee will be limited to a five-minute presentation. If those testifying intend to submit a longer statement for the record, it must be in English and accompany the request to present oral testimony to be submitted by February 22, 2008. Post-hearing briefs or statements will be accepted if they conform with the “Requirements for Submissions” cited above and are submitted, in English, by 5 p.m., March 14, 2008. Parties not wishing to appear at the public hearing may submit pre-hearing briefs or statements, in English, by 5 p.m., February 22, 2008. Post-hearing written briefs or statements are to be submitted in English by 5 p.m. on March 14, 2008.

In accordance with sections 503(d)(1)(A) of the 1974 Act and the authority delegated by the President, pursuant to section 332(g) of the Tariff Act of 1930, the U.S. Trade Representative has requested that the USITC provide its advice on the probable economic effect on U.S. industries producing like or directly competitive articles and on consumers of the waiver of the CNL for the specified GSP beneficiary countries, with respect to the articles that are specified in the “List of CNL Waiver Petitions Accepted in the 2007 GSP Annual Review.” Comments by interested persons on the USITC Report prepared as part of the product review should be submitted by 5 p.m., 10 calendar days after the date of USITC publication of its report. The e-mail address for these submissions is: FR0711@USTR.EOP.GOV.

Marideth Sandler,
Executive Director, Generalized System of Preferences (GSP) Program, Office of the U.S. Trade Representative.

[FR Doc. E8-1524 Filed 1-28-08; 8:45 am]

BILLING CODE 3190-W8-P